DEPARTMENT OF COMMERCE

National Oceanic and Atmospheric Administration

50 CFR Part 660

[Docket No. 070430095-7095-01]

RIN 0648-XC69

Fisheries Off West Coast States and in the Western Pacific; Modifications of the West Coast Commercial Salmon Fishery; Inseason Action #5, #6 and #7

AGENCY: National Marine Fisheries Service (NMFS), National Oceanic and Atmospheric Administration (NOAA), Commerce.

ACTION: Modification of fishing seasons, landing and possession limits; request for comments.

SUMMARY: NOAA Fisheries announces three inseason actions in the ocean salmon fisheries. Inseason action #5, in the commercial fishery in the area from the Humbug Mountain, Oregon, to the Oregon-California Border (Oregon KMZ subarea), closed the fishery effective Tuesday, August 14, 2007. Inseason action #6, in the recreational fishery in the area from the U.S.-Canada Border to Leadbetter Point, Washington, (Neah Bay, La Push and Westport subareas), expanded the fishing days from 2 to 7 days per week effective Friday, August 17, 2007. Inseason action #7, in the commercial fishery from Cape Falcon, Oregon, to Humbug Mountain, Oregon, closed the non-selective coho fishery effective 11:59 p.m. Monday, August 20, 2007. All other restrictions and regulations remained in effect as announced for the 2007 Ocean Salmon Fisheries and previous inseason actions.

DATES: Inseason action #5 was effective at 1200 hours local time (l.t.) Tuesday, August 14, 2007. Inseason action #6 was effective 0001 hours l.t. Friday, August 17, 2007. Inseason action #7 was effective 1159 hours l.t. Monday, August 20, 2007. Comments will be accepted through October 16, 2007.

ADDRESSES: Comments on these actions must be mailed to D. Robert Lohn, Regional Administrator, Northwest Region, NMFS, 7600 Sand Point Way N.E., Bldg. 1, Seattle, WA 98115-0070; or faxed to 206-526-6376. Comments can also be submitted via e-mail at the 2007salmonIA567.nwr@noaa.gov address, or on the internet at the Federal eRulemaking Portal: http://www.regulations.gov. Follow the instructions for submitting comments, and include 0648-XC69 in the subject line of the message. Information relevant to this document is available for public review during business hours at the Office of the Regional Administrator, Northwest Region, NMFS.

FOR FURTHER INFORMATION CONTACT: Sarah McAvinchey 206-526-4323.

SUPPLEMENTARY INFORMATION: In the 2007 annual management measures for ocean salmon fisheries (72 FR 24539, May 3, 2007), NMFS announced the commercial fisheries in the area from Cape Falcon, Oregon, to the Oregon-California Border and recreational fisheries from the U.S.-Canada border to Humbug Mountain, Oregon. Commercial fisheries in the area from Humbug Mountain to the Oregon-California Border were open from August 1 through the earlier of August 29, or the attainment of a 1,800-Chinook quota. Fishing was open for all salmon except coho. The commercial non-selective coho fishery in the area from Cape Falcon, Oregon, to Humbug Mountain, Oregon, was open August 15 through the earlier of September 13 or the attainment of a 10,000 non-mark-selective coho quota. The non-selective coho quota of 10,000 includes the entire area from Cape Falcon to Humbug Mountain. The recreational fishery from the U.S.-Canada border to Leadbetter Point, Washington, was open 2 days per week with the Neah Bay and La Push areas being open Tuesday through Saturday and the Westport area open Sunday through Thursday.

On August 13, 2007, for inseason action #5, August 15, 2007, for inseason action #6, and August 17, 2007 for inseason action #7 the Regional Administrator (RA) consulted with representatives of the Pacific Fishery Management Council, Washington Department of Fish and Wildlife, California Department of Fish and Game and Oregon Department of Fish and Wildlife. Information related to catch to date, Chinook and coho catch rates, and effort data were reported. Inseason action #5 was taken because the quota in the area was projected to be met and in order to operate the fishery within the 2007 regulations 2007 the fishery had to be closed. Inseason action #6 was taken because catch data indicated an increase in the number of days allowed in the fishery would attempt to provide the opportunity for the full quota to be taken within the scheduled season. Inseason action #7 was taken because the non-selective fishery was approaching the quota and to attempt to ensure the quota was not exceeded the fishery had to be closed.

As a result, on August 13, 15, and 17, 2007, the states recommended, and the RA concurred: Inseason action #5 would close the commercial fishery in the area from the Humbug Mountain, Oregon to the Oregon-California Border, effective Tuesday, August 14, 2007. Inseason action #6 in the recreational fishery would increase the number of fishing days per period from 2 to 7 days per period in the area from the U.S.-Canada Border to Leadbetter Point, Washington, effective Friday, August 17, 2007. Inseason action #7 in the commercial non-selective coho fishery would close from Cape Falcon, Oreon, to Humbug Mountain, Oregon, effective 11:59 p.m. Monday August 20, 2007. Modification in quota and/or fishing seasons is authorized by regulations at 50 CFR 660.409(b)(1)(i).

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (72 FR 24539, May 3, 2007), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily restricting the fishery. These actions are authorized by 50 CFR 660.409 and 660.411 and are exempt from review under Executive Order 12866.

Authority: 16 U.S.C. 1801 et seq.

Dated: September 25, 2007.
James P. Burgess,
Acting Director, Office of Sustainable Fisheries, National Marine Fisheries Service.

[FR Doc. E7-19368 Filed 9-28-07; 8:45 am]

BILLING CODE 3510-22-S